DEPARTMENT OF COMMERCE

International Trade Administration

[A-570-916]

Laminated Woven Sacks From the People's Republic of China: Preliminary Results of Antidumping Duty Administrative Review; 2011-2012

AGENCY: Import Administration, International Trade Administration, Department of Commerce.

SUMMARY: The Department of Commerce (“the Department”) is conducting an administrative review of the antidumping duty order on laminated woven sacks (“sacks”) from the People's Republic of China (“PRC”). The period of review (“POR”) is August 1, 2011, through July 31, 2012. The review covers one exporter of subject merchandise, Zibo Aifudi Plastic Packaging Co., Ltd. (“Aifudi”). We have preliminarily determined that Aifudi failed to demonstrate its eligibility for a separate rate. Accordingly, we are treating the company as part of the PRC-wide entity and subject to the PRC-wide rate.

DATES: Effective Date: January 29, 2013.

FOR FURTHER INFORMATION CONTACT: Irene Gorelik, AD/CVD Operations, Office 9, Import Administration, International Trade Administration, Department of Commerce, 1401 Constitution Avenue NW., Washington, DC 20230; telephone: (202) 482-6905.

SUPPLEMENTARY INFORMATION:

Scope of the Order

The merchandise covered by the order ¹ is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics.² Effective July 1, 2007, laminated woven sacks are classifiable under Harmonized Tariff Schedule of the United States (“HTSUS”) subheadings 6305.33.0050 and 6305.33.0080. Laminated woven sacks were previously classifiable under HTSUS subheading 6305.33.0020.³ The HTSUS subheadings are provided for convenience and customs purposes only; the written product description of the scope of the order is dispositive.

¹ See Notice of Antidumping Duty Order: Laminated Woven Sacks From the People's Republic of China, 73 FR 45941 (August 7, 2008) (“Order”)

² See “Decision Memorandum for Preliminary Results of Antidumping Duty Administrative Review: Laminated Woven Sacks from the People's Republic of China,” from Christian Marsh, Deputy Assistant Secretary for Antidumping and Countervailing Duty Operations, to Paul Piquado, Assistant Secretary for Import Administration, (“Preliminary Decision Memo”), dated concurrently with these results for a complete description of the Scope of the Order.

³ Additional HTSUS considerations apply. See Preliminary Decision Memo.

Methodology

The Department has conducted this review in accordance with section 751(a)(2) of the Tariff Act of 1930, as amended (“the Act”). Because the sole mandatory respondent, Aifudi, was unresponsive to the Department's request for information, failed to provide the requested information by the deadline, and thus failed to establish its eligibility for a separate rate, Aifudi is being treated as part of the PRC-wide entity. As a result, the PRC-wide entity is now under review. In making our preliminary determination with respect to the PRC-wide entity, we have relied on facts available and, because an element of the PRC-wide entity, Aifudi, failed to act to the best of its ability in complying with the Department's request for information, we have drawn an adverse inference in selecting from among the facts otherwise available.⁴

⁴ See sections 776(a) and (b) of the Act.

For a full description of the methodology underlying our conclusions, please see the Preliminary Decision Memo, dated concurrently with these results and hereby adopted by this notice. The Preliminary Decision Memo is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Preliminary Decision Memo can be accessed directly on the Internet at http://www.trade.gov/ia/. The signed Preliminary Decision Memo and the electronic version of the Preliminary Decision Memo are identical in content.

Preliminary Results of Review

The Department preliminarily determines that the following dumping margin exists for the period August 1, 2011, through July 31, 2012:

Exporter | Margin (percent)
PRC-Wide Entity (including Zibo Aifudi Plastic Packaging Co., Ltd.) | 91.73

Public Comment

Interested parties may submit case briefs not later than 30 days after the date of publication of this notice.⁵ Rebuttal briefs, limited to issues raised in the case briefs, may be filed not later than five days after the date for filing case briefs.⁶ Parties who submit case briefs or rebuttal briefs in this proceeding are encouraged to submit with each argument: (1) A statement of the issue; (2) a brief summary of the argument; and (3) a table of authorities.⁷ Case and rebuttal briefs should be filed using IA ACCESS.⁸

⁵ See 19 CFR 351.309(c).

⁶ See 19 CFR 351.309(d).

⁷ See 19 CFR 351.309(c)(2) and (d)(2).

⁸ See 19 CFR 351.303.

Interested parties who wish to request a hearing, or to participate if one is requested, must submit a written request to the Assistant Secretary for Import Administration, filed electronically via IA ACCESS.⁹ An electronically filed document must be received successfully in its entirety by the Department's electronic records system, IA ACCESS, by 5 p.m. Eastern Standard Time within 30 days after the date of publication of this notice.¹⁰ Requests should contain: (1) The party's name, address and telephone number; (2) the number of participants; and (3) a list of issues to be discussed. Issues raised in the hearing will be limited to those raised in the respective case briefs. Unless extended, the Department will issue the final results of this administrative review, including the results of its analysis of issues raised in any written briefs, not later than 120 days after the date of publication of this notice, pursuant to section 751(a)(3)(A) of the Act.

⁹ See 19 CFR 351.310(c).

¹⁰ See 19 CFR 351.310(c).

Assessment Rates

Upon issuance of the final results, the Department will determine, and U.S. Customs and Border Protection (“CBP”) shall assess, antidumping duties on all appropriate entries covered by this review. The Department intends to issue assessment instructions to CBP 15 days after the publication of the final results of this review. Where assessments are based upon total facts available, including total adverse facts available, we instruct CBP to assess duties at the adverse facts available margin rate. If these preliminary results are unchanged in the final results, then the Department intends to instruct CBP to assess antidumping duties on POR entries of the subject merchandise produced or exported by the PRC-wide entity (including Aifudi) at the rate of 91.73 percent of the entered value.¹¹ The final results of this review shall be the basis for the assessment of antidumping duties on entries of merchandise covered by this review and for future deposits of estimated duties, where applicable. The Department recently announced a refinement to its assessment practice in NME cases. Pursuant to this refinement in practice, for entries that were not reported by companies examined during this review, the Department will instruct CBP to liquidate such entries at the NME-wide rate. In addition, if the Department determines that an exporter under review had no shipments of the subject merchandise, any suspended entries that entered under that exporter's case number (i.e., at that exporter's rate) will be liquidated at the NME-wide rate.¹²

¹¹ See 19 CFR 351.212(b)(1).

¹² See Non-Market Economy Antidumping Proceedings: Assessment of Antidumping Duties, 76 FR 65694 (October 24, 2011).

Cash Deposit Requirements

The following cash deposit requirements will be effective upon publication of the final results of this administrative review for shipments of the subject merchandise from the PRC entered, or withdrawn from warehouse, for consumption on or after the publication date, as provided by sections 751(a)(2)(C) of the Act: (1) For previously investigated or reviewed PRC and non-PRC exporters not listed above that received a separate rate in a prior segment of this proceeding, the cash deposit rate will continue to be the existing exporter-specific rate; (2) for all PRC exporters (including Aifudi) of subject merchandise that have not been found to be entitled to a separate rate, the cash deposit rate will be the rate for the PRC-wide entity; and (3) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: January 22, 2013.
Paul Piquado,
Assistant Secretary for Import Administration.

Appendix I

List of Topics Discussed in the Preliminary Decision Memorandum

1. Aifudi as Part of the PRC-Wide Entity.

2. Application of Facts Available to the PRC-Wide Entity.

3. Application of Adverse Facts Available to the PRC-Wide Entity.

4. Selection of Adverse Facts Available Rate.

5. Corroboration of Information.

[FR Doc. 2013-01847 Filed 1-28-13; 8:45 am]

BILLING CODE 3510-DS-P